DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Tuesday, October 21, 2014, from 8:30 a.m. to 5:00 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the October 21, 2014 meeting is to review new start research and development projects requesting Strategic Environmental Research and Development Program funds as required by the SERDP Statute, U.S. Code—Title 10, Subtitle A, Part IV, Chapter 172, § 2904. The full agenda follows:

8:30 a.m. | Convene/Opening Remarks | Mr. Joseph Francis, Chair.
8:40 a.m. | Program Update | Dr. Anne Andrews, Acting Executive Director.
8:55 a.m. | Resource Conservation and Climate Change Overview | Dr. John Hall, Resource Conservation and Climate Change, Program Manager.
9:05 a.m. | 15 RC02-060 (RC-2516): Climate-Informed Estimation of Hydrologic Extremes for Robust Adaptation to Non-Stationary Climate (FY15 New Start) | Dr. Casey Brown, University of Massachusetts Amherst, Amherst, MA.
9:50 a.m. | Break
10:05 a.m. | Environmental Restoration Overview | Dr. Andrea Leeson, Environmental Restoration, Program Manager.
10:15 a.m. | 15 ER01-106 (ER-2536): Long-Term Laboratory Studies for Assimilation of Contaminants in Low k Zones (FY15 New Start) | Dr. Thomas Sale, Colorado State University, Fort Collins, CO.
11:00 a.m. | Environmental Restoration Overview | Dr. Andrea Leeson, Environmental Restoration, Program Manager.
11:10 a.m. | 15 ER03-001 (ER-2305): Microbially Driven Fenton Reaction: Development of Alternative Ex Situ and In Situ Remediation Technologies For 1,4-Dioxane, Tetrachloroethene, Trichloroethene, and Perfluoroalkyl Substances (FY15 Follow-On) | Dr. Thomas DiChristina, Georgia Institute of Technology, Atlanta, GA.
11:55 a.m. | Lunch
12:55 p.m. | Munitions Response Overview | Dr. Herb Nelson, Munitions Response, Program Manager.
1:05 p.m. | 15 MR01-005 (MR-2502): Quantitative Sediment Mapping: Surveys of Geoacoustic Properties Affecting Munitions Burial, Mobility and Detection (FY15 New Start) | Dr. Charles Holland, The Pennsylvania State University, State College, PA.
1:50 p.m. | 15 MR01-007 (MR-2503): Quantification of Hydrodynamic Forcing and Burial, Exposure and Mobility of Munitions on the Beach Face (FY15 New Start) | Dr. Jack Puleo, University of Delaware, Newark, DE.
2:35 p.m. | Break
2:50 p.m. | 15 MR01-045 (MR-2505): Acoustic Response of Underwater Munitions near a Water-Sediment Boundary (FY15 New Start) | Dr. Steven Kargl, University of Washington, Seattle, WA.
3:35 p.m. | Weapons Systems and Platforms Overview | Dr. Robin Nissan, Weapons Systems and Platforms, Program Manager.
3:45 p.m. | 15 WP02-005 (WP-2521): Standardized Test Methodologies for Low Observable Coating Durability (FY15 New Start) | Dr. Joseph Osborne, Boeing Research and Technology, Seattle, WA.
4:30 p.m. | Strategy Session | Dr. Anne Andrews, Acting Executive Director.
5:00 p.m. | Public Comments/Adjourn

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: September 19, 2014.
Aaron Siegel,
Alternate OSD Federal Register Liaison Officer, Department of Defense.

[FR Doc. 2014-22699 Filed 9-23-14; 8:45 am]

BILLING CODE 5001-06-P